DEPARTMENT OF STATE

[Public Notice: 6521]

60-Day Notice of Proposed Information Collection: DS-260, Electronic Application for Immigrant Visa and Alien Registration, OMB Control Number 1405-XXXX

Correction

In notice document E9-2776 appearing on page 6686 in the issue of Tuesday, February 10, 2009 make the following correction:

In the second column, under the DATE(S) heading, in the third line, “April 13, 2009” should read “February 10, 2009”.

[FR Doc. Z9-2776 Filed 2-13-09; 8:45 am]

BILLING CODE 1505-01-D